DEPARTMENT OF THE INTERIOR

Fish and Wildlife Service

Information Collection Renewal To Be Sent to the Office of Management and Budget (OMB) for Approval Under the Paperwork Reduction Act; OMB Control Number 1018-0120; Federal Subsistence Regional Advisory Council Member Application/Nomination and Interview Forms

AGENCY: Fish and Wildlife Service, Interior.

ACTION: Notice; request for comments.

SUMMARY: We (Fish and Wildlife Service) plan to request that OMB renew approval for our information collection associated with the recruitment of Federal Subsistence Regional Advisory Council members. The current OMB control number for this information collection is 1018-0120, which expires February 28, 2006. We will request that OMB renew approval of this information collection for a 3-year term.

DATES: You must submit comments on or before January 23, 2006.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirement, explanatory information, or related forms, contact Hope Grey at the addresses above or by telephone at (703) 358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see CFR 1320.8(d)). Federal agencies may not conduct or sponsor and a person is not required to respond to a collection of information unless it displays a currently valid OMB control number.

Title VIII of the Alaska National Interest Lands Conservation Act (16 U.S.C. 3101 et seq.) designates the Departments of the Interior and Agriculture as the key agencies responsible for implementing the subsistence priority on Federal public lands for rural Alaska residents. These responsibilities include the establishment of Federal Subsistence Regional Advisory Councils (Regional Councils) with members from each region who are knowledgeable about the region and subsistence uses of the public lands. Membership on the Regional Councils includes subsistence use and sport/commercial use representatives and is one way for the public to become involved in the Federal regulatory process.

Based upon recommendations of the Federal Subsistence Board, the Secretary of the Interior, with the concurrence of the Secretary of Agriculture, appoints members to the Regional Councils. One-third of the seats on the Regional Councils become vacant each year. Additional vacancies may occur due to resignations or deaths of sitting members. We recruit and screen applicants to help the Federal Subsistence Board develop a list of recommended appointments for consideration by the Secretary of the Interior. We use three forms to collect information during the recruitment process: FWS Form 3-2321 (Regional Council Membership Application/Nomination), FWS Form 3-2322 (Regional Council Candidate Interview), and FWS Form 3-2323 (Regional Council Reference/Key Contact Interview). We no longer use Form 7-FW5 (Federal Subsistence Regional Advisory Council Membership Nomination).

Title: Federal Subsistence Regional Advisory Council Member Application/Nomination and Interview Forms.

OMB Control Number: 1018-0120.

Form Numbers: FWS Form 3-2321, FWS Form 3-2322, and FWS Form 3-2323.

Frequency of Collection: Annually.

Description of Respondents: Alaska residents.

Form No. | Number of annual responses | Average burden hour per response | Total annual burden hours
FWS Form 3-2321 | 100 | 2 | 200
FWS Form 3-2322 | 100 | .5 | 50
FWS Form 3-2323 | 400 | .25 | 100
Total | 600 |  | 350

Each person desiring to serve on a Regional Council must complete FWS Form 3-2321. Persons nominating other individuals for membership must also complete this form. Applicants provide information on (1) their knowledge of fish and wildlife resources as well as subsistence and other uses of the resources; (2) their service on working groups, conservation committees, etc.; (3) how they would represent the people in the region; and (4) their willingness to travel and attend meetings. In addition, applicants must provide three references.

Federal staff use FWS Form 3-2322 to conduct applicant interviews by telephone. Respondents do not see the printed form. Interviewers will ask questions regarding the applicant's willingness to serve on the Regional Council and will ask applicants to explain information provided on FWS Form 3-2321.

Federal staff use FWS Form 3-2323 (Regional Council Reference/Key Contact Interview Form) to conduct interviews of references/key contacts for prospective Regional Council members. We conduct all interviews by telephone and the respondents do not see the printed form. Interviewers will ask questions about the applicant's (1) knowledge of fish and wildlife resources as well as subsistence practices and commercial/sport activities; (2) leadership ability; and (3) ability to communicate.

The Federal Subsistence Board uses this information to make recommendations to the Secretary of the Interior for appointment of members to the Regional Councils. The information collected is restricted to the Regional Council member selection process and only to staff that the Federal Subsistence Board deems necessary. The information collections in this program are part of a system of records covered by the Privacy Act (5 U.S.C. 552(a)).

We invite comments concerning this proposed information collection on: (1) Whether or not the collection of information is necessary for the proper selection of Regional Council members, including whether or not the information will have practical utility; (2) the accuracy of our estimate of the burden of the collection of information; (3) ways to enhance the quality, utility, and clarity of the information to be collected; and, (4) ways to minimize the burden of the collection of information on respondents.

Dated: November 4, 2005.
Hope G. Grey,
Information Collection Clearance Officer, Fish and Wildlife Service.

[FR Doc. 05-23173 Filed 11-22-05; 8:45 am]

BILLING CODE 4310-55-P